DEPARTMENT OF TRANSPORTATION

Office of the Assistant Secretary for Research and Technology

[Docket No. DOT-OST-2023-0011]

Notice of Request for Clearance of a New Information Collection: Electric Vehicle Inventory and Use Survey (eVIUS)

AGENCY: Bureau of Transportation Statistics (BTS) Office of the Assistant Secretary for Research and Technology (OST-R), DOT.

ACTION: Notice and request for comments.

SUMMARY: In accordance with the requirements of the Paperwork Reduction Act of 1995, this notice announces the intention of the BTS to request the Office of Management and Budget's (OMB's) approval for a new information collection related to the nation's Battery Electric Vehicles (BEVs). The information collected will be used to produce national statistics on the characteristics and uses of BEVs. A summary report of survey findings will also be published by BTS on the BTS web page: www.bts.gov.

DATES: Comments must be submitted on or before Friday, May 5, 2023.

ADDRESSES: You may submit comments identified by DOT Docket ID Number DOT-OST-2023-0011 to the U.S. Department of Transportation (DOT), Dockets Management System (DMS). You may submit your comments by mail or in person to the Docket Clerk, Docket No., U.S. Department of Transportation, 1200 New Jersey Ave. SE, West Building Room W12-140, Washington, DC 20590. Comments should identify the docket number as indicated above. Paper comments should be submitted in duplicate. The DMS is open for examination and copying, at the above address, from 9 a.m. to 5 p.m., Monday through Friday, except federal holidays. If you wish to receive confirmation of receipt of your written comments, please include a self-addressed, stamped postcard with the following statement: “Comments on Docket DOT-OST-2023-0011.” The Docket Clerk will date stamp the postcard prior to returning it to you via the U.S. mail. Please note that due to delays in the delivery of U.S. mail to Federal offices in Washington, DC, we recommend that persons consider an alternative method (the internet, fax, or professional delivery service) to submit comments to the docket and ensure their timely receipt at U.S. DOT. You may fax your comments to the DMS at (202) 493-2251. Comments can also be viewed and/or submitted via the Federal Rulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: Ryan Grube, (202) 734-1569, eVIUS Program Manager, BTS, OST-R, Department of Transportation, 1200 New Jersey Ave. SE, Room E32-317, Washington, DC 20590. Office hours are from 8:00 a.m. to 5:30 p.m., E.T., Monday through Friday, except Federal holidays.

SUPPLEMENTARY INFORMATION:

Title: Electric Vehicle Inventory and Use Survey (eVIUS).

Background: The BTS, with its partners, the Federal Highway Administration (FHWA) and the U.S. Department of Energy (DOE), is planning to conduct the first Electric Vehicle Inventory and Use Survey (eVIUS).

Every 5 years from 1962 to 2002, as a part of the Economic Census, the U.S. Census Bureau conducted the Truck Inventory and Use Survey (TIUS), which was renamed the Vehicle Inventory and Use Survey (VIUS) in 1997. The survey was conducted to better understand the characterizes and use of trucks on our nation's roads. Since its inception, the survey has been used to guide investments in the nation's infrastructure, conduct size and weight studies, track changes in vehicle technologies, and more. In 2022, the BTS, in partnership with the US Census Bureau, FHWA, and DOE, conducted the 2021 VIUS, the first VIUS in almost two decades. The survey scope was inclusive of all Class 1-8 trucks.

As the pace of electric vehicles increases on the nation's roadways, to aid public planning for future transportation systems and infrastructure investments, BTS is planning to conduct an electric vehicle specific VIUS to better understand the characteristics and uses of battery electric vehicles, with an expanded scope of vehicle types to include passenger cars and buses. The data collection will be administered to a national sample of battery electric vehicle owners. The sample will be stratified on the vehicle registration state and the class size of the vehicle. The survey will request the respondents to provide information such as: Vehicle Miles Traveled (VMT) over the past 12 months, the average VMT in a typical trip, the type of vehicle owner (personal, commercial, lessee), the number of other vehicles owned in the household, charging behaviors, and type of use. The survey will be limited to 10 questions and the data collection period will be limited to 12-weeks to ensure timely results.

Respondents: The target population for the survey will be all registered battery electric vehicle owners in the U.S. The respondents will be sampled proportionally by registration state and Gross Vehicle Weight Rating (GVWR) class size.

Estimated Average Burden per Response: The burden per respondent is estimated to be an average of 10 minutes. This average is based on an estimate of 1 minute to answer each question.

Estimated Total Annual Burden: The total annual burden (in the year that the survey is conducted) is estimated to be between 1,666 and 3,333 hours depending on the final sample size (that is 10 minutes per respondent for 10,000-20,000 respondents, which equals 100,000-200,000 minutes).

Frequency: One time.

Public Comments Invited: Interested parties are invited to send comments regarding any aspect of this information collection, including, but not limited to: (1) the necessity and utility of the information collection for the proper performance of the functions of the DOT; (2) the accuracy of the estimated burden; (3) ways to enhance the quality, utility, clarity and content of the collected information; and (4) ways to minimize the collection burden without reducing the quality of the collected information. Comments submitted in response to this notice will be summarized and/or included in the request for OMB's clearance of this information collection.

Issued in Washington, DC, on the 6th of March 2023.
Cha-Chi Fan,
Director, Office of Data Development and Standards, Bureau of Transportation Statistics, Office of the Assistant Secretary for Research and Technology.

[FR Doc. 2023-04812 Filed 3-8-23; 8:45 am]

BILLING CODE 4910-9X-P